DEPARTMENT OF HEALTH AND HUMAN SERVICES

Centers for Medicare & Medicaid Services

[Document Identifiers: CMS-10398 #43, #45, and #48]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by January 23, 2024.

ADDRESSES: When commenting, please reference the applicable form number (CMS-10398 #see below) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 (#__)/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRAListing.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collections

1. Title of Information Collection: Certified Community Behavioral Health Clinic (CCBHC) Cost Report; Type of Information Collection Request: Revision of an active collection of information request; Use: The CCBHC cost report allows clinics in the demonstration to calculate Prospective Payment System (PPS) rates using clinic-specific cost and visit data associated with delivery of the nine statutory services as outlined under the authorizing Protecting Access to Medicare Act (PAMA) (Pub. L. 113-93) at section 223(D) Scope of Services. Currently CCBHCs use the cost report to calculate rates based on the existing CC PPS-1 daily, or CC PPS-2 monthly rate that do not include separate crisis rate options. Calculation of the new daily and monthly special crisis services PPS rates required CMS to revise the existing CCBHC cost report to include addition worksheets to address the new crisis rate offerings being finalized in the CCBHC Technical Guide. SCS rates would be effective beginning January 1, 2024, for any existing states that may be interested in implementing either CC PPS-3 or CC PPS-4, and new states entering the program by July 2024 will have the option to choose from among the four PPS rate options made available under the updated Technical Guide and CCBHC cost report.

States and clinics selecting either the CC PPS-3 or CC PPS-4 crisis rate methodology will require additional time to separate costs and visit data for up to three special crisis services rates. CCBHCs in states that choose CC PPS-2 rate methodology will require additional time to gather data for special populations and account for outlier thresholds.

Because use of this cost report involves participation in the CCBHC demonstration program, the information is expected to be collected annually, assuming rates are trended forward for the second year of the program using the Medicare Economic Index (MEI), rebased in the third year of the demonstration and trended forward for the fourth year of the demonstration using the MEI. However, if the state requires CCBHCs to rebase rates for other years of the demonstration using CCBHC cost report data, the provider would be required to complete the cost report each time the state rebases the rate. CMS does also require CCBHC demonstration states to submit cost reports in trended years although rates may only reflect changes based on MEI adjustment for inflationary changes. Form Number: CMS-10398 #43 (OMB control number: 0938-1148); Frequency: Annual; Affected Public: Private Sector (Businesses or other for profits and Not for profit institutions) and State, Local, or Tribal Governments; Number of Respondents: 60; Total Annual Responses: 60; Total Annual Hours: 3,389. (For policy questions regarding this collection contact: Beverly Boston at 410-786-4186.)

2. Title of Information Collection: Certified Community Behavioral Health Clinic (CCBHC) 2024 State Proposal Demonstration Application; Type of Information Collection Request: Revision of an active collection of information request; Use: Based on recent extension and expansion of the CCBHC Demonstration under section 11001 of Bipartisan Safer Communities Act ¹ (BSCA) of 2022, the State Proposal Demonstration Application is required to be completed by existing CCBHC grantee states and submitted to the Centers for Medicare & Medicaid Services (CMS) and the Substance Abuse and Mental Health Services Administration (SAMHSA) to determine state readiness and eligibility to be selected as one of the 10 new states added to the CCBHC demonstration in 2024 and every two years thereafter per the BSCA legislation. The awarding of Planning Grants to states was the first phase of a two-phase process. Phase II will consist of participation in the demonstration. Form Number: CMS-10398 #45 (OMB control number: 0938-1148); Frequency: One time and On occasion; Affected Public: State, Local, or Tribal Governments; Number of Respondents: 30; Total Annual Responses: 30; Total Annual Hours: 1,790. (For policy questions regarding this collection contact: Beverly Boston at 410-786-4186.)

¹ Bipartisan Safer Communities Act.

3. Title of Information Collection: Behavioral Health Clinic Quality Data Reporting; Type of Information Collection Request: Revision of an active collection of information request; Use: This Information Collection concerns the Behavioral Health Clinic Quality Data Reporting Template (hereinafter “Reporting Template” or “Template”), developed in partnership with the Substance Abuse and Mental Health Services Administration (SAMHSA) and the Assistant Secretary for Planning and Evaluation (ASPE) (collectively, “the Agencies”). The Reporting Template is designed to collect quality measure data and to report at the clinic level. The Agencies developed the Template to provide states and clinics with a streamlined and structured tool to report quality measures data. The Reporting Template aims to eliminate the time required for states or clinics to develop their own reporting templates for quality measure data reporting and minimizes inconsistencies in reporting. Furthermore, the Reporting Template, with its accompanying instructions, support an innovative approach to improve behavioral health, a key focus of health care reform. Form Number: CMS-10398 (#48) (OMB control number: 0938-1148); Frequency: Annual; Affected Public: Private Sector (Businesses or other for profits and Not for profit institutions) and State, Local, or Tribal Governments; Number of Respondents: 429; Total Annual Responses: 1,009; Total Annual Hours: 6,814. (For policy questions regarding this collection contact: Beverly Boston at 410-786-4186.)

Dated: January 4, 2024.
William N. Parham, III,
Director, Division of Information Collections and Regulatory Impacts, Office of Strategic Operations and Regulatory Affairs.

[FR Doc. 2024-00205 Filed 1-8-24; 8:45 am]

BILLING CODE 4120-01-P